DEPARTMENT OF COMMERCE

International Trade Administration

9th Annual U.S. Industry Program at the International Atomic Energy Agency (IAEA) General Conference in Vienna, Austria; September 18-21, 2016

AGENCY: International Trade Administration, Department of Commerce.

ACTION: Notice.

SUMMARY: The United States Department of Commerce's (DOC) International Trade Administration (ITA), with participation from the U.S. Departments of Energy and State, is organizing the 9th Annual U.S. Industry Program at the International Atomic Energy Agency (IAEA) General Conference, to be held September 18-21, 2016, in Vienna, Austria. The IAEA General Conference is the premier global meeting of civil nuclear policymakers and typically attracts senior officials and industry representatives from all 162 Member States. The U.S. Industry Program is part of the Department of Commerce-led Civil Nuclear Trade Initiative, a U.S. Government effort to help U.S. civil nuclear companies identify and capitalize on commercial civil nuclear opportunities around the world. The purpose of the program is to help the U.S. nuclear industry promote its services and technologies to an international audience, including senior energy policymakers from current and emerging markets as well as IAEA staff.

Representatives of U.S. companies from across the U.S. civil nuclear supply chain are eligible to participate. In addition, organizations providing related services to the industry, such as universities, research institutions, and U.S. civil nuclear trade associations, are eligible for participation. The mission will help U.S. participants gain market insights, make industry contacts, solidify business strategies, and identify or advance specific projects with the goal of increasing U.S. civil nuclear exports to a wide variety of countries interested in nuclear energy.

The schedule includes: (1) Meetings with foreign delegations; (2) briefings from senior U.S. Government officials and IAEA staff on important civil nuclear topics including regulatory, technology and standards issues; liability, public acceptance, export controls, financing, infrastructure development, and R&D cooperation; and (3) networking events. Past U.S. Industry Programs have included participation by the U.S. Secretary of Energy, the Chairman of the U.S. Nuclear Regulatory Commission (NRC) and senior U.S. Government officials from the Departments of Commerce, Energy, State, the U.S. Export-Import Bank and the National Security Council.

There are significant opportunities for U.S. businesses in the global civil nuclear energy market. With 172 nuclear plant projects planned in 30 countries over the next 8-10 years, this translates to a market demand for equipment and services totaling $500-740 billion over the next ten years. This mission contributes to the President's National Export Initiative NEXT (http://www.trade.gov/neinext) and DOC's Civil Nuclear Trade Initiative (http://export.gov/civilnuclear), by assisting U.S. businesses in entering or expanding in international markets, and enhancing opportunities for U.S. exports.

FOR FURTHER INFORMATION CONTACT: Jonathan Chesebro, Industry & Analysis, Office of Energy and Environmental Industries, Washington, DC, Tel: (202) 482-1297, Email: jonathan.chesebro@trade.gov.

Mr. Robert McEntire, Project Officer—Office of Trade Promotion Programs, U.S. Department of Commerce, Washington, DC, Tel: (202) 482-5226, Email: Robert.McEntire@trade.gov.

SUPPLEMENTARY INFORMATION:

Schedule
Sunday, September 18 | U.S. Industry Delegation Welcome Reception and Program Orientation/Major Nuclear Markets Overview.
Monday, September 19 | Industry Program breakfast meeting begins.
| U.S. Policymakers Roundtable.
| Break.
| USG Dialogue with Industry.
| IAEA Side Events.
| Break.
| Industry Program Meetings: one-on-one meetings with ITA Commercial Service staff and Ex-Im Bank staff over lunch.
| Country & IAEA Briefings for Industry Delegation (foreign delegates & IAEA staff).
| IAEA Director General Reception.
| U.S. Mission to the IAEA Reception.
Tuesday, September 20 | USG Industry Roundtable briefings.
| Country & IAEA Briefings for Industry (presented by foreign delegates & IAEA staff).
| IAEA Side Event Meetings.
| U.S. Industry Reception (America Lounge).
Wednesday, September 21 | Country & IAEA Briefings for Industry (presented by foreign delegates & IAEA staff).
| IAEA Side Events.

Web site: Please visit our official mission Web site for more information: http://www.export.gov/trademissions/.

Participation Requirements

U.S. companies, U.S. trade associations, and U.S. academic and research institutions interested in participating in the trade mission must complete and submit an application package for consideration by the DOC. All applicants will be evaluated on their ability to meet certain conditions and best satisfy the selection criteria as outlined below. Applications will be reviewed on a rolling basis in the order that they are received. A minimum of 15 and maximum of 50 companies and/or trade associations and/or U.S. academic and research institutions will be selected to participate in the mission from the applicant pool.

Fees and Expenses

After a company or organization has been selected to participate on the mission, a payment to the DOC in the form of a participation fee is required. Participants will be able to take advantage of U.S. Embassy rates for hotel rooms.

The fee to participate in the event is $3,500 for a large, small or medium-sized company (SME), a trade association, or a U.S. university or research institution. The fee for each additional representative (large company, trade association, university/research institution, or SME) is $2,400.

Application

All interested firms and associations may register via the following link: http://emenuapps.ita.doc.gov/ePublic/TM/6R0R.

Exclusions

The mission fee does not include any personal travel expenses such as lodging, most meals, local ground transportation, except as stated in the proposed agenda, and air transportation from the United States to the mission site and return to the United States.

Timeline for Recruitment and Applications

Recruitment for participation in the U.S. Industry Program as a representative of the U.S. nuclear industry will be conducted in an open and public manner, including publication in the Federal Register, posting on the DOC trade mission calendar, notices to industry trade associations and other multiplier groups. Recruitment will begin 2 weeks after publication in the Federal Register and conclude no later than June 24, 2016. The ITA will review applications and make selection decisions on a rolling basis. Applications received after June 24, 2016, will be considered only if space and scheduling permit.

Conditions for Participation

Applicants must submit a completed mission application signed by a company, trade association, or academic or research institution official, together with supplemental application materials, including adequate information on the organization's products and/or services, primary market objectives, and goals for participation. If the DOC receives an incomplete application, the DOC may reject the application, request additional information, or take the lack of information into account in its evaluation.

Each applicant also must certify that the products or services it seeks to export through the mission are either produced in the United States, or, if not, marketed under the name of a U.S. firm and have demonstrable U.S. content as a percentage of the value of the finished product or service. In the case of a trade association, the applicant must certify that, for each company to be represented by the trade association or trade organization, the products and services the represented company seeks to export are either produced in the United States, or, if not, marketed under the name of a U.S. firm and have demonstrable U.S. content. In the case of an academic or research institution, the applicant must certify that as part of its activities at the event, it will represent the interests of constituents that meet the criteria above.

Applicants from a company, organization or institution that is majority owned or controlled by a foreign government entity will not be considered for participation in the U.S. Industry Program.

Frank Spector,
Acting Director, Trade Missions Program.

[FR Doc. 2015-31149 Filed 12-9-15; 8:45 am]

BILLING CODE 3510-DR-P